DEPARTMENT OF ENERGY

Western Area Power Administration

[DOE/EIS-0400]

Granby Pumping Plant Switchyard-Windy Gap Substation Transmission Line Rebuild, Grand County, Colorado

AGENCY: Western Area Power Administration, DOE.

ACTION: Record of decision.

SUMMARY: Western Area Power Administration (Western), a power marketing administration in the U.S. Department of Energy (DOE), owns and operates the 69-kilovolt (kV) Granby Pumping Plant Switchyard-Windy Gap Substation (Project) transmission line in Grand County, Colorado. The transmission line is 13.6 miles long. Western proposes to rebuild the single-circuit line as a double-circuit line, increase the voltage rating to 138-kV, and operate one circuit at 69-kV and the second at 138-kV. One circuit would replace Western's existing transmission line between the Windy Gap Substation and Stillwater Tap and provide a redundant feed from the tap to the Granby Pumping Plant to prepare for when the existing 69-kV cable located in the Alva B. Adams Tunnel is no longer operable. The second circuit was requested by Tri-State Generation and Transmission Association, Inc. (Tri-State) to improve reliability for their local customer, Mountain Parks Electric, Inc., and to minimize environmental effects by sharing a right-of-way (ROW).

The Notice of Availability (NOA) of the Final Environmental Impact Statement (EIS) was published in the Federal Register on July 5, 2013 (78 FR 40474). After considering the environmental impacts, Western has decided to construct, operate, and maintain the transmission line on the preferred alignment identified as Alternative D (Option 1), in the EIS.

FOR FURTHER INFORMATION CONTACT: For further information contact Mr. Jim Hartman, Corporate Services Office, Western Area Power Administration, A7400, P.O. Box 281213, Lakewood, CO 80228, telephone (720) 962-7255, or email: gppwgp@wapa.gov. For general information on DOE's National Environmental Policy Act of 1969 (NEPA) review process, please contact Ms. Carol M. Borgstrom, Director, Office of NEPA Policy and Compliance, GC-20, U.S. Department of Energy, Washington, DC 20585, telephone (202) 586-4600 or (800) 472-2756.

SUPPLEMENTARY INFORMATION: Western markets and transmits wholesale electrical power generated at federal hydropower facilities through an integrated 17,000-circuit mile, high-voltage transmission system across 15 western states. At the beginning of the project, Western determined an environmental assessment (EA) would be the appropriate level of review under NEPA. In 2005, Western began to prepare the EA. Scoping for the EA started with notification in local newspapers and mailing to over 250 landowners, government officials, and persons known to be interested in similar projects. One public meeting was held in July 2005 and a second in November 2006. After reviewing public comments and concerns about potential impacts, Western determined an EIS would be appropriate for this project.

The Notice of Intent (NOI) to prepare an EIS was published in the Federal Register on August 10, 2007 (72 FR 45040). Formal public scoping for the EIS began with the publication of the NOI and ended on September 17, 2007. One public scoping meeting was held on August 30, 2007.

The Forest Service and Bureau of Land Management were federal cooperating agencies on the EIS and Grand County was a local cooperating agency. The NOA for the Draft EIS was published in the Federal Register on March 30, 2012 (77 FR 19282). The NOA established a 60-day public comment period that ended May 29, 2012. A public meeting and hearing on the Draft EIS were held in Granby, Colorado on April 24, 2012. Notice of the meeting was provided through an advertisement in the local newspaper and direct mailing to approximately 1300 addressees. Six individuals provided oral comments during the public meeting and one individual provided an oral comment at the public hearing. Western received 43 comment letters, emails, or telephone comments on the Draft EIS during the comment period. Western received 135 unique comments from all comment sources.

The NOA for the Final EIS was published in the Federal Register on July 5, 2013 (78 FR 40474). Approximately 1200 notifications were sent to landowners in the Project area and other stakeholders, and notices were published in online and printed versions of the local newspaper from June 21 to 28, 2013. Copies of the Final EIS were available for review at three local reading rooms and were available for download from Western's Web site. A copy of the EIS was sent to those who requested one.

Proposed Project

Western needs to address electrical system deficiencies of their existing 70-year-old transmission line in the Granby, Colorado area. Western also needs to ensure reliable power to the Granby Pumping Plant (also known as the Farr Pumping Plant) if the Adams Tunnel cable fails. The Adams Tunnel cable has exceeded its expected life and cannot be economically replaced. The purposes of the Project are to address the deficiencies in the existing system, ensure a reliable and safe electrical supply, and decrease maintenance costs. Western's preferred alternative is to rebuild and upgrade the existing transmission line along Alternative D, (Option 1). This includes rebuilding and upgrading the existing single-circuit 69-kV transmission line between the Windy Gap Substation and Stillwater Tap, and between the Stillwater Tap and the Granby Pumping Plant. The transmission line was constructed in 1939 by the U.S. Bureau of Reclamation as part of the Colorado-Big Thompson Project. Much of the line has a 30-foot wide ROW. To provide additional voltage support to address startup issues for the pumps at the Granby Pumping Plant, Western's circuit would be upgraded to 138-kV capacity but operated at 69-kV. At the request of Tri-State, Western would share the ROW so Tri-State could construct a redundant feed for the local electrical system owned by Mountain Parks Electric, Inc. Adding a second 138-kV circuit requires the use of double-circuit steel structures. Western needs to expand ROWs where they are inadequate to ensure public safety and to support the higher voltage and double-circuit conductor. The Granby Pumping Plant Switchyard would be expanded to accommodate a 138-kV yard and a breaker would be added to the Windy Gap Substation. The proposal includes reroutes to avoid existing developments and existing incompatible commercial uses that have been built near the line since it was constructed. The proposal consolidates utility ROWs and reduces visual impacts. The proposed Project is located on private and Federal land and would be about 12.6 miles long.

Western revised its preferred action alternative in the Final EIS to accommodate requests by landowners along County Road 64 to move the preferred alternative further to the west. Western met with the Forest Service on August 10, 2012, to discuss this request since the request would move the line closer to the Cutthroat Bay Campground. After this meeting, the alignment of the preferred alternative was moved further west of the residences to cross County Road 64 onto Forest Service lands. Based on the field review and discussions with the Forest Service, the route was modified to meet additional objectives and local constraints. Minor localized modifications to structure locations to protect resources and accommodate landowner requests will be considered during design as long as the modifications would not adversely affect adjacent landowners, increase environmental impacts, or appreciably increase costs or affect maintenance and operations.

Description of Alternatives

A range of reasonable alternatives for the proposed project was identified by evaluating routing opportunities and constraints, engineering design standards, public comments, and environmental resources. The objective was to identify alternatives that address public, environmental, and social concerns, and meet the project purpose and need and engineering criteria. Relevant issues identified during both the EA and EIS public scoping processes were used to refine the alternatives. The Arapaho and Roosevelt National Forest Plan goals and objectives and Grand County zoning and land use policies applicable to the project area were considered in the development of alternatives. Western relied on additional studies and public comments to refine transmission line alignments and to identify the proposed action and alternatives to analyze in the EIS.

Ultimately, five alternatives were identified for detailed analysis in the EIS: (1) Alternative A: keep the existing transmission line (no action); (2) Alternative B1: rebuild and upgrade the transmission line primarily on the existing transmission line ROW; (3) Alternative C1: reroute and upgrade the transmission line; (4) Alternative C2: reroute and upgrade the transmission line, with options to use existing utility ROWs; and (5) Alternative D (Options 1 and 2): rebuild and upgrade the transmission line primarily on existing utility ROWs. Alternative D (Option 1) was selected as the preferred alternative.

Both Option 1 and Option 2 of Alternative D follow the existing transmission line ROW and then interconnect with an existing water pipeline ROW. Option 1 follows the water pipeline ROW further than Option 2. Options 1 and 2 have the fewest residences within 100 feet of the proposed transmission line centerline. Both Options 1 and 2 reduce impacts to houses by removing the existing line and relocating the ROW further from existing development. The options also remove an existing line from a Forest Service campground and incorporate modification in the campground area that was requested by local residents. On the southwest end of the project area, key impacts and differences between alternatives surround issues of planned development and proximity to sage grouse leks.

Alternative D (Option 1) is the environmentally preferable alternative because it best balances impacts to existing and planned development, scenic values, and wildlife resources. Alternative D (Option 1) consolidates a pipeline and transmission line ROW through a proposed development on the southwest end of the project area, which reduces impacts to proposed development by avoiding areas planned for higher density development. It locates the line away from the northern boundary of the planned development to reduce impacts to the last known active sage grouse lek in eastern Grand County and avoids construction of new access and utility ROWs. Alternative D (Option 1) reduces potential visual impacts by placing the transmission line further away from the scenic byway near Scanloch Subdivision and Grand Elk Marina, removing an existing line and locating the rebuilt line out of the view toward Lake Granby from Scanloch Subdivision, and removing an existing line from the Cutthroat Bay Campground to improve views toward Lake Granby. Alternative D (Option 1) furthers the intent of the Grand County Three Lakes Design Review Area to preserve scenic values by using non-reflective conductors and consolidating two separate lines onto one ROW between Stillwater Tap and Granby Pumping Plant Switchyard, thereby avoiding the need for two separate, single-circuit transmission lines. Further, it would use non-reflective conductors. The proposal maximizes the use of Federal land and minimizes conflicts with existing development.

Western considered eleven additional alternatives that were eliminated from further evaluation based on technical or economic considerations. Western assessed the alternatives for their reasonable ability to achieve the stated purpose and need of the project, while reducing significant environmental effects. Among the alternatives eliminated were undergrounding, placing the transmission lines inside an existing underground water pipeline, rebuilding and upgrading the Adams Tunnel Cable, installing part of the line under Lake Granby, and other routing and system alternatives. These are described in the EIS.

The No Action Alternative did not meet the purpose and need for the project. This alternative would require continued actions to maintain the transmission line to ensure that it remained safe and provided reliable service. While this alternative would maintain the current level of service in the project area, it would not address the decreased system reliability if the Adams Tunnel cable failed. Additionally, Tri-State would still need to expand their transmission system to improve service reliability to their customers by building a line roughly parallel to Western's because of topographic and environmental constraints and the need to interconnect at the same substations. The No Action Alternative would not address the increasing costs associated with maintaining the 70-year old transmission line, it would not address the voltage fluctuations and other system operation issues described in the EIS, and it would not address the constraints to maintenance that have developed in some areas where the ROW could not be expanded to ensure adequate clearances and access.

Mitigation Measures

Practicable methods to avoid or minimize environmental impacts from the selected alternative are adopted in this Record of Decision. Western's standard practices and project-specific protection measures, listed in the Final EIS, will be implemented. Many of the protection measures will be implemented through design and the project construction contract. A Mitigation Action Plan will be prepared that includes protective measures that will be implemented during design, construction, and routine maintenance or Forest Service agreements.

Comments on Final EIS

Western received two comment letters on the Final EIS. Colorado Parks and Wildlife submitted a letter reiterating their preference to keep the project on the existing ROW and further from the sage grouse lek, and requesting that Western ensure that wildlife resource protection measures be implemented. The Final EIS responded to these comments and described protective measures for wildlife. The Environmental Protection Agency commented that it was unclear whether new sources of power would be needed for the project. No new sources of power would be needed for the project. The resource mix would not be modified for the project. Other comments on the Final EIS included email comments stating a preference for undergrounding and requesting additional information on the construction schedule.

Decision

Western's decision is to construct the project along the preferred alternative described in the Final EIS.¹ This satisfies Western's statutory mission while minimizing harm to the environment. This decision is based on the information in the Final EIS. This Record of Decision was prepared according to the requirements of the Council on Environmental Quality's regulations for implementing NEPA (40 CFR parts 1500-1508) and DOE's procedures for implementing NEPA (10 CFR part 1021).

¹ On November 16, 2011, DOE's Acting General Counsel delegated to Western's Administrator all the authorities of the General Counsel respecting environmental impact statements.

Dated: September 23, 2013.
Mark A. Gabriel,
Administrator.

[FR Doc. 2013-23988 Filed 9-30-13; 8:45 am]

BILLING CODE 6450-01-P